DEPARTMENT OF EDUCATION

Applications for New Awards; Technical Assistance and Dissemination To Improve Services and Results for Children With Disabilities and Demonstration and Training Programs—National Technical Assistance Center on Transition for Students and Youth with Disabilities

AGENCY: Office of Special Education and Rehabilitative Services, Department of Education.

ACTION: Notice.

SUMMARY: The Department of Education is issuing a notice inviting applications for new awards for fiscal year (FY) 2020 for the National Technical Assistance Center on Transition for Students with Disabilities (Center), Catalog of Federal Domestic Assistance (CFDA) number 84.326E, to assist States in their work to improve outcomes for students and youth with disabilities based on their particular needs. To achieve this purpose, the Center will engage in partnerships with parents, families, and diverse stakeholders and empower States to pursue innovation. Further, the Center will be required to customize its technical assistance (TA) to meet each State's specific, identified needs. This notice relates to the approved information collection under OMB control number 1820-0028.

DATES:

Applications Available: June 29, 2020.

Deadline for Transmittal of Applications: August 28, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Selete Avoke, U.S. Department of Education, 400 Maryland Avenue SW, Room 5002, Potomac Center Plaza, Washington, DC 20202-5076. Telephone: (202) 245-7260. Email: Selete.Avoke@ed.gov. Or Kristen Rhinehart-Fernandez, U.S. Department of Education, 400 Maryland Avenue SW, Room 5094, Potomac Center Plaza, Washington, DC 20202-5076. Telephone: (202) 245-6103. Email: Kristen.Rhinehart@ed.gov.

If you use a telecommunications device for the deaf (TDD) or a text telephone (TTY), call the Federal Relay Service (FRS), toll free, at 1-800-877-8339.

SUPPLEMENTARY INFORMATION:

Full Text of Announcement

I. Funding Opportunity Description

Purpose of Programs: The purpose of the Technical Assistance and Dissemination to Improve Services and Results for Children with Disabilities program is to promote academic achievement and to improve results for children with disabilities by providing TA, supporting model demonstration projects, disseminating useful information, and implementing activities that are supported by scientifically based research.

The purpose of the Demonstration and Training program is to provide competitive grants, including cooperative agreements, to, or enter into contracts with, eligible entities to expand and improve the provision of vocational rehabilitation (VR) and other services authorized under the Rehabilitation Act of 1973, as amended by title IV of the Workforce Innovation and Opportunity Act (WIOA) (Rehabilitation Act), or to further the purposes and policies in sections 2(b) and (c) of the Rehabilitation Act by supporting activities that increase the provision, extent, availability, scope, and quality of rehabilitation services under the Rehabilitation Act, including related research and evaluation activities.

Priority: This notice includes one absolute priority. For the Technical Assistance and Dissemination to Improve Services and Results for Children with Disabilities program, in accordance with 34 CFR 75.105(b)(2)(v), the absolute priority is from allowable activities specified in sections 663 and 681(d) of the Individuals with Disabilities Education Act (IDEA) (20 U.S.C. 1463 and 1481(d)). For the Demonstration and Training program, we are also establishing this priority for the FY 2020 grant competition and any subsequent year in which we make awards from the list of unfunded applications from this competition, in accordance with section 437(d)(1) of the General Education Provisions Act (GEPA), 20 U.S.C. 1232(d)(1).

Absolute Priority: For FY 2020 and any subsequent year in which we make awards from the list of unfunded applications from this competition, this priority is an absolute priority. Under 34 CFR 75.105(c)(3), we consider only applications that meet this priority.

This priority is:

National Technical Assistance Center on Transition for Students and Youth with Disabilities (Center).

Background:

Students and youth with disabilities must be held to high expectations and have the resources and supports needed to expand their learning opportunities and prepare them for success in postsecondary education or careers. This priority is aligned with the Secretary's Final Supplemental Priorities and Definitions for Discretionary Grant Programs (Supplemental Priorities) published in the Federal Register on March 2, 2018 (83 FR 9096) and is designed to foster flexible and affordable paths to obtaining knowledge and skills; foster knowledge and promote the development of skills that prepare students to be informed, thoughtful, and productive individuals and citizens; and meet the unique needs of students and children with disabilities and those with unique gifts and talents. This priority also is designed to prepare students for successful transitions to college and careers by improving access to career, technical, and adult education (CTE) and exploring options, such as dual enrollment, that facilitate transition from secondary school to postsecondary education and workforce job skills development; to prepare students for high-quality science, technology, engineering, and mathematics (STEM) education with a particular focus on computer science; ¹ and provide students with equal access to high-quality educational opportunities.

¹ STEM is also a national priority. For more details, see “Charting A Course For Success: America's Strategy For STEM Education,” www.whitehouse.gov/wp-content/uploads/2018/12/STEM-Education-Strategic-Plan-2018.pdf (December 2018).

The IDEA and the Elementary and Secondary Education Act of 1965, as amended (ESEA), provide States flexibility with the design of their educational systems and other provisions to support and promote college and career readiness for students, including those with disabilities (English et al., 2016). Under ESEA, States need to ensure students with disabilities, especially those with significant disabilities, are not prevented from working toward a regular high school diploma that allows them to pursue college and career opportunities (Thurlow et al., 2016).

Similarly, the Rehabilitation Act emphasizes career readiness and high-quality outcomes for students and youth with disabilities. With the passage of WIOA, the differences in how education agencies and VR agencies define and provide transition and pre-employment transition services became more evident. For example, transition services are available to eligible students and youth with disabilities under an approved individualized plan for employment. Pre-employment transition services are available to all students with disabilities who are potentially eligible and eligible for VR services. As a result, State educational agencies (SEAs), local educational agencies (LEAs), and State VR agencies and their partners continue to examine their roles and responsibilities and identify ways to ensure that transition services and pre-employment transition services are coordinated in an efficient and effective manner. Notwithstanding these requirements, States need assistance in implementing these transition services.

The IDEA requires States to report data through their IDEA Part B State Performance Plan/Annual Performance Report (SPP/APR) on Indicator 13,² which is the percentage of youth ages 16 and above with individualized education programs (IEPs) that include appropriate measurable postsecondary goals. The postsecondary goals are updated annually and are based upon age-appropriate transition assessments related to training, education, employment, and, where appropriate, independent living skills. The IEP must also include transition services (including courses of study) needed to assist the student in reaching those postsecondary goals. States also must provide evidence that each student was invited to the IEP Team meeting where transition services were to be discussed and evidence that, if appropriate, a representative of any participating agency was invited to the IEP Team meeting with the prior consent of the parent or student who has reached the age of majority. For Federal fiscal year (FFY) 2017-2018, only 11 out of the 50 States, the District of Columbia, and the 9 entities (the freely associated States, the outlying areas, Puerto Rico, and the Bureau of Indian Education) (18 percent) reported 100 percent compliance with Indicator 13 requirements.³ As an IDEA requirement, all States are expected to report 100 percent compliance.

² The IDEA Part B SPP/APR Indicator 13 is based on the monitoring priority in 20 U.S.C. 1416(a)(3)(B). More information on the indicator and other SPP/APR indicators can be found in the IDEA Part B SPP/APR Indicator Measurement Table, at https://osep.grads360.org/#communities/pdc/documents/18303.

³ See https://osep.grads360.org/#program/spp-apr-resources.

Similarly, State VR agencies and their partners must meet requirements established in the Rehabilitation Act for the provision of services to students and youth with disabilities to ensure they have opportunities to receive training and other services necessary to achieve competitive integrated employment. More specifically, the Rehabilitation Act, as amended by WIOA, expands both the population of students with disabilities who may receive services and the kinds of services that the VR agencies may provide to students and youth with disabilities who are transitioning from school to postsecondary education and employment. The Rehabilitation Act also increases opportunities for students and youth with disabilities to practice and improve workplace skills, such as through internships and other work-based learning opportunities.

Under the Rehabilitation Act, State VR agencies are required to reserve and expend not less than 15 percent of the Federal VR grant award to provide, or arrange for the provision of, (a) pre-employment transition services for students with disabilities transitioning from school to postsecondary education programs and employment, and (b) coordinate the provision of pre-employment transition services with LEAs. These requirements have fostered significant increases in communication and collaboration between State VR agencies and LEAs, particularly regarding the provision of pre-employment transition services for students with disabilities. However, even in States that have a history of collaboration among SEAs, LEAs, and VR agencies, the depth of collaboration required to define responsibilities and align service implementation is a continuing challenge.

LEAs and schools, including charter schools, continue to need TA to coordinate, implement, and provide pre-employment transition services and IDEA transition services. According to the Case Service Report (RSA-911),⁴ 173,709 students and youth with disabilities were referred for VR services in program year (PY) 2018 (July 1, 2018—June 30, 2019). During this period, 61 percent were referred by educational institutions, while 39 percent were referred by other referral sources (e.g., self-referrals, family/friends, employers). As there were 413,353 students ages 14 to 21 who received services under IDEA in school year 2016-17, the percentage of referrals from educational institutions represents only a small fraction of those students with disabilities who were potentially eligible or eligible for VR services.

⁴ RSA uses data collected through the Case Service Report (RSA-911)(OMB control number 1820-0508) for the State VR Services Program and the State Supported Employment (SE) Services Program to describe the performance of the VR and SE programs in the Annual Report to the Congress and the President as required by sections 13 and 101(a)(10) of the Rehabilitation Act.

As demonstrated by the data described above, there continues to be a need for increased support to VR agencies and LEAs both in identifying potentially eligible and eligible students for VR services and providing those services. During PY 2018 alone,⁵ VR agencies reported that 248,676 students with disabilities received pre-employment transition services arranged for or provided by the VR program. Of this number, 138,120 were students with disabilities potentially eligible for VR services, and 110,556 were students with disabilities who applied for VR services, were determined eligible, and received pre-employment transition services. This data represents a small fraction of the total number of potentially eligible students who could benefit from pre-employment transition services. Not only could more students with disabilities receiving special education services be potentially eligible for pre-employment transition services, but also an additional number of students who have disabilities as described in Section 504 of the Rehabilitation Act of 1973, as amended, could be potentially eligible.

⁵ RSA-911.

Department funds must be awarded and projects must be operated in a manner consistent with nondiscrimination requirements contained in the U.S. Constitution and Federal civil rights laws.

Priority

The purpose of this priority is to fund a cooperative agreement to establish and operate a National Technical Assistance Center on Transition for Students and Youth with Disabilities (Center). The Center will assist SEAs, LEAs, State VR agencies, and other VR and special education and related service providers to implement effective practices and strategies that ensure that students and youth with disabilities, including those with significant disabilities, graduate from high school with the knowledge, skills, and supports needed for postsecondary education, training, and employment. In addition to in-person services, the Center must offer appropriate remote environment methodologies for these services in light of the COVID-19 pandemic. The Center must achieve, at a minimum, the following expected outcomes:

(a) Improved development and implementation of, and compliance with, interagency agreements between SEAs, LEAs, and State VR agencies. These interagency agreements address data sharing, fiscal and programmatic roles and responsibilities related to the provision of pre-employment transition services, and transition services and other VR services;

(b) Increased SEA and State VR agency capacity to provide TA and professional development to LEAs and VR service providers to implement pre-employment transition services that lead to post-secondary education, training, and employment;

(c) Improved SEA, LEA, and State VR agency capacity to implement with fidelity evidence-based transition services;

(d) Improved SEA, LEA, and State VR agency capacity to implement career pathways including work-based learning experiences, internships, and pre-apprenticeship and apprenticeship activities for students and youth with disabilities, including those with the most significant disabilities and those living in rural areas;

(e) Increased SEA, LEA, and State VR agency capacity and collaboration to improve students with disabilities' access to, and participation in, CTE that leads to occupations that require licenses or certification;

(f) Increased use of data sharing agreements ⁶ among SEAs, LEAs, State VR agencies, and other VR service providers to inform and improve the provision of services for students with disabilities;

⁶ Applicants must ensure the confidentiality of individual student data, consistent with the Confidentiality of Information regulations under both part B and part C of IDEA, which incorporate requirements and exceptions under section 444 of the General Education Provisions Act (20 U.S.C. 1232g), commonly known as the “Family Educational Rights and Privacy Act” (FERPA), but also include several provisions that are specifically related to children with disabilities receiving services under IDEA and provide protections beyond the FERPA regulations. Therefore, examining the IDEA requirements first is the most effective and efficient way to meet the requirements of both IDEA and FERPA for children with disabilities. Applicants should also be aware of State laws or regulations concerning the confidentiality of individual records. See www2.ed.gov/policy/gen/guid/ptac/pdf/idea-ferpa.pdf and studentprivacy.ed.gov/resources/ferpaidea-cross-walk. Final FERPA regulatory changes became effective January 3, 2012, and include requirements for data sharing. Applicants are encouraged to review the final FERPA regulations published on December 2, 2011 (76 FR 75604). Questions can be directed to the Student Privacy Policy Office (www.ed.gov/fpco) at (202) 260-3887 or FERPA@ed.gov.

(g) Increased capacity of SEAs, LEAs, and State VR agencies to collect and evaluate data on the effectiveness of services for students and youth with disabilities;

(h) Increased capacity of States to design and implement a State-designed alternative diploma where appropriate;

(i) Increased implementation of effective dropout prevention models and practices to increase school completion and graduation;

(j) Increased implementation of transition services and pre-employment transition services within a multi-tiered systems of support (MTSS) framework (i.e., how schools can implement the predictors and practices for post-school outcomes in an MTSS framework);

(k) Increased implementation of transition services and pre-employment transition services for high-risk students with disabilities (e.g., students with the most significant disabilities, students in foster care, military-connected students and youth, youth involved with the juvenile justice system, and youth who are homeless or using or abusing controlled substances); and

(l) Improved referral and application processes that facilitate parental involvement and consent for the provision of services.

In addition to applicants achieving the expected outcomes described above, to be considered for funding under the absolute priority, applicants must also meet the following application and administrative requirements, which are:

(a) Demonstrate, in the narrative section of the application under “Significance of the project,” how the proposed project will—

(1) Address training and information needs, gaps or weaknesses of SEAs, LEAs, State VR agencies, and other VR service providers, including those located in rural areas, to implement practices and strategies that will promote collaboration among agency personnel, prevent students with disabilities from dropping out of school, and facilitate the transition from secondary school to college and careers. To meet this requirement, the applicant must—

(i) Demonstrate knowledge of new and emerging issues and TA needs related to pre-employment transition services, transition services, other VR services, CTE, vocational education and training, dropout prevention, secondary transition, apprenticeship, and college and careers;

(ii) Demonstrate knowledge of exemplary transition activities, including pre-employment transition services, and career pathway models that will assist SEAs, LEAs, State VR agencies, and other VR service providers, in improving post-school outcomes for students with disabilities;

(iii) Demonstrate knowledge of current State VR agency and other efforts to improve engagement with secondary schools, charter schools, youth programs, and other programs that provide services to youth with disabilities for the purpose of assisting such youth to enter postsecondary education or competitive integrated employment; and

(iv) Present applicable national and State data demonstrating the training needs of SEAs, LEAs, State VR agencies, and other VR service providers to implement exemplary practices and strategies that will reduce high- school dropout rates and facilitate the transition to college and careers for students with disabilities;

(2) Demonstrate knowledge of high-risk populations including students with the most significant disabilities, students in foster care, military-connected students and youth, youth involved with the juvenile justice system, and youth who are homeless or using or abusing controlled substances; and

(3) Demonstrate knowledge of effective means to improve communication and engagement among students in public and nonpublic schools, parents, families, education professionals, employers, and SEA, LEA, and VR personnel to enhance collaboration and improve the post-school outcomes of students with disabilities.

(b) Demonstrate, in the narrative section of the application under “Quality of the project services,” how the proposed project will—

(1) Ensure equal access and treatment for members of groups that have traditionally been underrepresented based on race, color, national origin, gender, age, or disability.

To meet this requirement, the applicant must describe how it will—

(i) Identify the needs of the intended recipients for TA and information; and

(ii) Ensure that services and products meet the needs of the intended recipients of the grant;

(2) Achieve its goals, objectives, and intended outcomes. To meet this requirement, the applicant must provide—

(i) A plan for how the Center proposes to communicate, collaborate, and coordinate, on an ongoing basis with Parent Training and Information (PTI) centers funded under sections 671 and 681(d) of IDEA and the PTI centers and a national Center funded under section 303(c) of the Rehabilitation Act, as well as other Department-funded projects and those supported by other Federal agencies, including those funded by the Department of Health and Human Services, Administration on Community Living, as appropriate, and a description of how the Center will evaluate the effectiveness of its coordination and collaboration;

(ii) Measurable intended project outcomes; and

(iii) In Appendix A, the logic model ⁷ by which the proposed project will achieve its intended outcomes that depicts, at a minimum, the goals and how they will be measured, activities, outputs, and intended project outcomes of the proposed project;

⁷ “Logic model” (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework;

(4) Be based on current research on the most effective ways to prepare students with disabilities to participate in transition services, pre-employment transition services, other VR services, college, CTE, vocational education, and careers. To meet this requirement, the applicant must describe—

(i) The current research on the most effective ways to prepare students with disabilities for successful post-school outcomes;

(ii) The current research about adult learning principles and implementation science that will inform the proposed TA (section 101(a)(11)(D) of the Rehabilitation Act); and

(iii) How the proposed project will incorporate current research and practices in the development and delivery of its products and services (section 101(a)(11)(D) of the Rehabilitation Act);

(5) Develop new products or refine or update publicly available existing products and provide services that are of high quality and sufficient intensity and duration to achieve the intended outcomes of the proposed project (sections 103(a) and 113(d)(3) of the Rehabilitation Act). To address this requirement, the applicant must describe—

(i) How it proposes to identify or develop the knowledge base on supporting students with disabilities to stay in school, receive effective transition services, pre-employment transition services and VR services, CTE, and vocational education, and to be prepared for college and careers, including in STEM fields;

(ii) Its proposed approach to universal, general TA,⁸ which must identify the intended recipients, including the type and number of recipients, that will receive the products and services, a description of new or existing publicly available products that may be used and services that the Center proposes to make available, and the expected impact of those products and services under this approach; and

⁸ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) Its proposed approach to targeted, specialized TA,⁹ which must identify—

⁹ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of new or existing publicly available products that may be used and services that the Center proposes to make available, and the expected impact of those products and services under this approach; and

(B) Its proposed approach to measure readiness of potential TA recipients to work with the project, assessing, at a minimum, their current infrastructure, available resources, and ability to build capacity at the local level; and

(iv) Its proposed approach to intensive, sustained TA,¹⁰ which must identify—

¹⁰ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services, a description of new or existing publicly available products that may be used and services that the Center proposes to make available, and the expected impact of those products and services under this approach;

(B) Its proposed approach to measure the readiness of SEAs, LEAs, State VR agencies, and other VR service providers to work with the project, including their commitment to the initiative, alignment of the initiative to their needs, and ability to build capacity, and implement and sustain TA at the local, district, or State level);

(C) Its proposed plan for assisting SEAs, LEAs, State VR agencies, and other VR service providers to build and sustain training systems that include professional development based on adult learning principles and coaching; and

(D) Its proposed plan for working with appropriate levels of the education and VR system (e.g., SEAs, LEAs State VR agencies, VR service providers, CTE and vocational education charter schools, private industry, employers, Health and Human Services personnel, Department of Labor personnel, dropout prevention specialists, transition-related professionals, postsecondary education professionals, regional TA providers, parents and families) to ensure that there is communication between each level and that there are systems in place to support the use of effective transition practices from school to college and careers.

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(7) Develop a dissemination plan that describes how the applicant will systematically distribute information, products, and services to varied intended audiences, using a variety of dissemination strategies, to promote awareness and use of the Center's products and services.

(c) In the narrative section of the application under “Quality of the project evaluation,” include an evaluation plan for the project as described in the following paragraphs. The evaluation plan must describe: measures of progress in implementation, including the criteria for determining the extent to which the project's products and services have met the goals for reaching its target population; measures of intended outcomes or results of the project's activities in order to evaluate those activities; and how well the goals or objectives of the proposed project, as described in its logic model, have been met. The applicant also must include a proposed plan for collecting baseline, targeted, and outcome data for each intensive TA site.

The applicant must provide an assurance that, in designing the evaluation plan, it will—

(1) Designate, with the approval of the OSEP and RSA project officers, a project liaison with sufficient dedicated time, experience in evaluation, and knowledge of the project to work in collaboration with the Center to Improve Program and Project Performance (CIPP),¹¹ the project director, and the OSEP project officer on the following tasks:

¹¹ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application to provide for a more comprehensive measurement of implementation and outcomes and to reflect any changes or clarifications to the model discussed at the kick-off meeting;

(ii) Refine the evaluation design and instrumentation proposed in the application consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it clearly—

(A) Specifies the evaluation questions, measures, and associated instruments or sources for data appropriate to answer these questions, suggests analytic strategies for those data, provides a timeline for conducting the evaluation, and includes staff assignments for completing the evaluation activities;

(B) Delineates the data expected to be available by the end of the second project year for use during the project's evaluation (3+2 review) for continued funding described under the heading Fourth and Fifth Years of the Project; and

(C) Can be used to assist the project director and the OSEP and RSA project officers, with the assistance of CIPP, as needed, to specify the project performance measures to be addressed in the project's annual performance report;

(2) Dedicate sufficient staff time and other resources during the first six months of the project to cooperate with CIPP staff, including regular meetings (e.g., weekly, biweekly, or monthly) with CIPP and the OSEP and RSA project officers, in order to accomplish the tasks described in paragraph (c)(1) of this section; and

(3) Dedicate sufficient funds in each budget year to cover the costs of carrying out the tasks described in paragraphs (c)(1) and (2) of this section and revising and implementing the evaluation plan. Please note in your budget narrative the funds dedicated for this activity.

(d) Demonstrate, in the narrative section of the application under “Adequacy of project resources,” how—

(1) The proposed project will encourage applications for employment from persons who are members of groups that have traditionally been underrepresented based on race, color, national origin, gender, age, or disability, as appropriate;

(2) The proposed key project personnel, consultants, and subcontractors have the qualifications and experience, including knowledge of VR, to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, partners, subject matter experts, and contractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of parents and families, educators in public and nonpublic schools, TA providers, researchers, and policy makers, among others, in its development and operation.

(f) Address the following application requirements. The applicant must—

(1) Include, in Appendix A, personnel-loading charts and timelines, as applicable, to illustrate the management plan described in the narrative;

(2) Include, in the budget, attendance at the following:

(i) A two-day kick-off meeting in Washington, DC, after receipt of the award, and an annual planning meeting, with the OSEP and RSA project officers and other relevant staff during each subsequent year of the project period.

Note: Within 30 days of receipt of the award, a post-award teleconference must be held between the OSEP and RSA project officers and the grantee's project director or other authorized representative;

(ii) A two and one-half day OSEP project directors' conference in Washington, DC, during each year of the project period;

(iii) Three annual two-day trips to attend Department briefings, Department-sponsored conferences, and other meetings, as requested by OSEP and RSA; and

(iv) A two-day intensive 3+2 review meeting during the second year of the project period;

(3) Include, in the budget, a line item for an annual set-aside of five percent of OSEP's portion of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility including section 508 of the Rehabilitation Act. In meeting this requirement, applicants may develop new platforms or systems or may modify existing platforms or systems, so long as the requirements of this priority are met;

(5) Ensure that annual progress toward meeting project goals is posted on the project website;

(6) Disseminate grant products, information about targeted and universal TA activities, such as webinars and other relevant information, to a wide audience, as well as RSA's National Clearinghouse of Rehabilitation Training Materials (NCRTM) at www.ncrtm.ed.gov. The NCRTM is RSA's central repository for maintaining and sharing training and TA materials for the VR community; and

(7) Include, in Appendix A, two assurances. The first assurance is to assist OSEP and RSA with the transfer of pertinent resources and products and to maintain the continuity of services to TA recipients during the transition to this new award period and at the end of this award period, as appropriate. The second assurance is to ensure the applicant will track and report IDEA and Rehabilitation Act funds separately. Please refer to the Funding Restrictions section of the notice for more information about preparing the budget.

Fourth and Fifth Years of the Project:

In deciding whether to continue funding the project for the fourth and fifth years, the Secretary will consider the requirements of 34 CFR 75.253(a), as well as—

(a) The recommendation of a 3+2 review team consisting of experts selected by the Secretary. This review will be conducted during a two-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

References:

English, D., Rasmussen, J., Cushing, E., & Therriault, S. (2016). Leveraging Every Student Succeeds Act to support state visions for college and career readiness. College and Career Readiness and Success Center. https://ccrscenter.org/sites/default/files/AskCCRS_LeveragingESSA.pdf.

Thurlow, M., Test, D., Lazarus, S., Klare, M., & Fowler, C. (2016). Considerations for developing state-defined alternate diplomas for students with significant cognitive disabilities. University of Minnesota, National Center on Educational Outcomes; and University of North Carolina Charlotte, National Technical Assistance Center on Transition.

Waiver of Proposed Rulemaking: Under the Administrative Procedure Act (APA) (5 U.S.C. 553) the Department generally offers interested parties the opportunity to comment on proposed priorities. Under the Technical Assistance and Dissemination to Improve Services and Results for Children with Disabilities program, section 681(d) of IDEA makes the public comment requirements of the APA inapplicable to the priority in this notice. Under the Demonstration and Training program, section 437(d)(1) of GEPA allows the Secretary to exempt from rulemaking requirements regulations governing the first grant competition under a new or substantially revised program authority. This is the first grant competition for this program under section 29 U.S.C. 773(b)(5)(A) of the Rehabilitation Act and therefore qualifies for this exemption. In order to ensure timely grant awards, the Secretary has decided to forgo public comment on the priority under section 437(d)(1) of GEPA. This priority will apply to the FY 2020 grant competition and any subsequent year in which we make awards from the list of unfunded applications from this competition.

Program Authorities: 20 U.S.C. 1463 and 1481; 29 U.S.C. 709(c) and 773(b).

Applicable Regulations: (a) The Education Department General Administrative Regulations in 34 CFR parts 75, 77, 79, 81, 82, 84, 86, 97, 98, and 99. (b) The Office of Management and Budget Guidelines to Agencies on Government wide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The following definitions from 34 CFR part 361 apply: (1) “transition services” (34 CFR 361.5(c)(55)); (2) “pre-employment transition services” (34 CFR 361.5(c)(42) and 361.48(a)); (3) “VR services” (34 CFR 361.48(b)); (4) “student with a disability” (34 CFR 361.5(c)(51)); (5) “youth with disability” (34 CFR 361.5(c)(58)); (6) “competitive integrated employment” (34 CFR 361.5(c)(9)); (7) “supported employment” (34 CFR 361.5(c)(53)); and (8) “customized employment” (34 CFR 361.5(c)(11)). (e) The regulations in 34 CFR part 373 (Rehabilitation National Activities Program). (f) The regulations in 48 CFR part 31 (Contract Cost Principles and Procedures).

Note: The regulations in 34 CFR part 79 apply to all applicants except federally recognized Indian Tribes.

Note: The regulations in 34 CFR part 86 apply to institutions of higher education (IHEs) only.

II. Award Information

Type of Award: Cooperative agreement.

Estimated Available Funds: $4,100,000

Rehabilitation Act funds: $2,000,000.

IDEA funds: $2,100,000.

Note: Applicants must address regulations outlining funding restrictions referenced in the Applicable Regulations section of this notice, in Part III Eligibility Determination, and in Part IV Application Submission Information of this notice. Applicants must submit an ED-524 budget form and include a budget narrative in the application specific to IDEA funding. Applicants must also submit an ED-524 budget form and include a budget narrative in the application specific to Rehabilitation Act funding.

Maximum Award: We will not make an award exceeding $4,100,000 for a single budget period of 12 months.

Estimated Number of Awards: 1.

Note: The Department is not bound by any estimates in this notice.

Project Period: Up to 60 months.

III. Eligibility Information

1. Eligible Applicants: SEAs; LEAs, including public charter schools that operate as LEAs under State law; IHEs; other public agencies; private nonprofit organizations; freely associated States and outlying areas; Indian Tribes or Tribal organizations; and for-profit organizations.

2. Cost Sharing or Matching: There is no requirement for cost sharing or matching.

3. Subgrantees: Under 34 CFR 373.23(b), a grantee may not make a subgrant under the Rehabilitation National Activities Program. However, a grantee may contract for supplies, equipment, and other services, in accordance with 2 CFR part 200 (Uniform Administrative Requirements, Cost Principles, and Audit Requirements for Federal Awards) as adopted at 2 CFR part 3474. Therefore, the grantee may not use Rehabilitation Act funds to award subgrants. Under 34 CFR 75.708(b) and (c), a grantee under this competition may award subgrants using IDEA funds to directly carry out project activities described in its application and authorized under the IDEA to the following types of entities: IHEs and private nonprofit organizations suitable to carry out the activities proposed in the application and authorized under the IDEA. The grantee may award subgrants using IDEA funds to entities it has identified in an approved application.

4. Other General Requirements:

(a) Recipients of funding under this competition must make positive efforts to employ and advance in employment qualified individuals with disabilities (see section 606 of IDEA; 20 U.S.C. 1405).

(b) Applicants for, and recipients of, funding must, with respect to the aspects of their proposed project relating to the absolute priority, involve individuals with disabilities, or parents of individuals with disabilities ages birth through 26, in planning, implementing, and evaluating the project (see section 682(a)(1)(A) of IDEA; 20 U.S.C. 1482).

IV. Application and Submission Information

1. Application Submission Instructions: Applicants are required to follow Common Instructions for Applicants to Department of Education Discretionary Grant Programs, published in the Federal Register on February 13, 2019 (84 FR 3678) and available at www.govinfo.gov/content/pkg/FR-2019-02-13/pdf/2019-02206.pdf, which contain requirements and information on how to submit an application.

2. Submission of Proprietary Information: Given the types of projects that may be proposed in applications for the National Technical Assistance Center on Transition for Students and Youth with Disabilities your application may include business information that you consider proprietary. In 34 CFR 5.11 we define “business information” and describe the process we use in determining whether any of that information is proprietary and, thus, protected from disclosure under Exemption 4 of the Freedom of Information Act (5 U.S.C. 552, as amended). Because we plan to make successful applications available to the public, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make an award by the end of FY 2020.

4. Funding Restrictions: Regulations outlining funding restrictions are referenced in the Applicable Regulations section of this notice.

Under 34 CFR 373.23(b), the grantee is not permitted to subgrant using Rehabilitation Act funds.

Under 34 CFR 373.22(a), indirect cost reimbursement for grants under the Rehabilitation National Activities program is limited to the recipient's actual indirect costs, as determined by its negotiated indirect cost rate agreement, or 10 percent of the total direct cost base, whichever amount is less. This requirement only applies to the Rehabilitation Act funds. Eligible entities can apply their negotiated indirect cost rate for the IDEA funds.

Under 34 CFR 373.22(c), the 10 percent limit on indirect cost reimbursement for the Rehabilitation Act funds does not apply to federally recognized Indian Tribal governments and their Tribal representatives.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(vi) The adequacy of mechanisms for ensuring high-quality products and services from the proposed project.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance Results Modernization Act of 2010, the Department has established a set of performance measures, including long-term measures, that are designed to yield information on various aspects of the effectiveness and quality of the Technical Assistance and Dissemination to Improve Services and Results for Children With Disabilities program. These measures are:

• Program Performance Measure 1: The percentage of Technical Assistance and Dissemination products and services deemed to be of high quality by an independent review panel of experts qualified to review the substantive content of the products and services.

• Program Performance Measure 2: The percentage of Special Education Technical Assistance and Dissemination products and services deemed by an independent review panel of qualified experts to be of high relevance to educational and early intervention policy or practice.

• Program Performance Measure 3: The percentage of all Special Education Technical Assistance and Dissemination products and services deemed by an independent review panel of qualified experts to be useful in improving educational or early intervention policy or practice, including the preparation of students with disabilities for postsecondary education and employment.

• Program Performance Measure 4: The cost efficiency of the Technical Assistance and Dissemination Program includes the percentage of milestones achieved in the current annual performance report period and the percentage of funds spent during the current fiscal year.

• Program Performance Measure 5: For recipients of intensive TA, increase the number and quality of signed and executed formal interagency agreements among SEAs, LEAs, and State VR agencies that comply with the requirements in 34 CFR 361.22(b).

• Long-term Program Performance Measure: The percentage of States receiving Special Education Technical Assistance and Dissemination services regarding scientifically or evidence-based practices for infants, toddlers, children, and youth with disabilities that successfully promote the implementation of those practices in school districts and service agencies.

Applicants must also report the following for recipients of intensive and targeted TA: (a) Relevant data that substantiates increased provision of job exploration counseling, work-based learning experiences, counseling on enrollment opportunities in comprehensive transition or postsecondary educational programs at IHEs, workplace readiness training, and instruction in self-advocacy through collaboration among State VR agencies and their service providers, SEAs, LEAs, and other workforce development partners, as appropriate; and (b) percentage of intensive TA sites that can attribute increases in competitive integrated employment, supported employment and customized employment, or other relevant measures, as appropriate, to the TA provided by the Center.

The measures apply to projects funded under this competition, and grantees are required to submit data on these measures as directed by OSEP and RSA.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact persons listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-13975 Filed 6-26-20; 8:45 am]

BILLING CODE 4000-01-P